FEDERAL MARITIME COMMISSION

Notice of Agreement Filed

The Commission hereby gives notice of the filing of the following agreement under the Shipping Act of 1984. Interested parties may submit comments on the agreement to the Secretary, Federal Maritime Commission, Washington, DC 20573, within twelve days of the date this notice appears in the Federal Register. A copy of the agreement is available through the Commission's Web site (www.fmc.gov) or by contacting the Office of Agreements at (202)-523-5793 or tradeanalysis@fmc.gov.

Agreement No.: 012426.

Title: The OCEAN Alliance Agreement.

Parties: COSCO Container Lines Co., Ltd.; CMA CGM S.A.; Evergreen Marine Corporation (Taiwan) Ltd. acting on its own behalf and/or on behalf of other members of the Evergreen Line Joint Service Agreement (ELJSA); and Orient Overseas Container Line Limited and OOCL (Europe) Limited, acting as one party.

Filing Party: Mark J. Fink, Esq. and Robert K. Magovern, Esq.; Cozen O'Connor; 1200 Nineteenth St. NW., Washington, DC 20036.

Synopsis: The agreement would authorize the Parties to share vessels with one another, charter and exchange space on one another's vessels, and enter into cooperative working arrangements in connection with the Parties' services and operations in the trades between Asia, Northern Europe, the Mediterranean, the Middle East, Canada, Central America, and the Caribbean on the one hand, and the U.S. on the other hand.

By Order of the Federal Maritime Commission.
Dated: July 18, 2016.
Karen V. Gregory,
Secretary.

[FR Doc. 2016-17237 Filed 7-20-16; 8:45 am]

BILLING CODE 6731-AA-P